DEPARTMENT OF COMMERCE

[Docket No. 221117-0245]

XRIN 0694-XC093

Request for Public Comments Regarding Areas and Priorities for U.S. and Japan Export Control Cooperation for the Japan-U.S. Commercial and Industrial Partnership Export Control Working Group

AGENCY: Bureau of Industry and Security, Commerce.

ACTION: Notice of inquiry, request for comments.

SUMMARY: The Bureau of Industry and Security (BIS) requests public comments regarding areas and priorities for U.S. and Japan export control cooperation to help inform the work of the Japan-U.S. Commercial and Industrial Partnership (JUCIP) Export Control Working Group. Comments should address ways in which existing U.S. and/or Japanese dual-use export control policies and practices may be more transparent, more efficient and effective, and more convergent, including in identifying and controlling emerging or foundational technologies, and in better facilitating research collaboration between Japan and U.S. research organizations.

DATES: Comments must be received by BIS January 17, 2023.

ADDRESSES: Comments on this rule may be submitted to the Federal rulemaking portal (www.regulations.gov). The regulations.gov ID for this rule is BIS-2022-0029. All relevant comments (including any personally identifying information) will be made available for public inspection and copying. All filers using the portal should use the name of the person or entity submitting the comments as the name of their files.

FOR FURTHER INFORMATION CONTACT: Eileen Albanese, Director, Office of National Security and Technology Transfer Controls, Bureau of Industry and Security, Department of Commerce, by phone at (202) 482-0092, or by email at eileen.albanese@bis.doc.gov.

SUPPLEMENTARY INFORMATION:

Background

On November 15, 2021, Commerce Secretary Gina Raimondo and Japan's Ministry of Economy, Trade and Industry (METI) Minister Koichi Hagiuda issued a joint-statement establishing the Japan-U.S. Commercial and Industrial Partnership (JUCIP), available at https://www.commerce.gov/news/press-releases/2021/11/joint-statement-between-department-commerce-secretary-gina-raimondo-and. Together, the United States and Japan account for 30 percent of global GDP, with U.S.-Japan two-way trade in goods and services amounting to $252.2 billion in 2020. In view of this, the JUCIP serves as a forum for the United States and Japan to coordinate approaches to key global trade, economic, and technology issues, and to deepen transpacific trade and economic relations based on shared democratic values.

The main goals of the JUCIP are to strengthen the competitiveness, resiliency, and security of both economies; to address shared global challenges such as climate change; and to achieve prosperity and maintain a free and fair economic order. The JUCIP's four working groups provide a framework for promoting investment and vitalizing cooperation between the private sectors of both countries; advancing innovation in areas such as digital and advanced technologies; promoting the resiliency of supply chains for semiconductors, 5G, and other vital industry segments; strengthening collaboration in the protection of critical technologies and the development of infrastructure; addressing market-distorting measures to counter unfair trade practices; and placing a priority on promoting the development and use of clean energy and related technologies. With a view to building upon the two countries' strong and vibrant commercial and industrial relationship, the Secretary and the Minister also committed to ensuring active stakeholder involvement and maintaining robust engagement under the JUCIP to achieve commercially meaningful outcomes.

On May 4, 2022, Secretary Raimondo and Minister Hagiuda held the first Ministerial meeting of the JUCIP. They reaffirmed that deeper cooperation on commercial and industrial issues is critical to responding to threats to the global economic order and reviewed progress made to date under the JUCIP. For the Export Control Working Group, this includes: the joint establishment of a Work Plan on Export Control Cooperation, which will further strengthen technical consultations on current and possible future legislative and regulatory developments, sensitive dual-use technologies, and advanced technologies that may be used for human rights violations or abuses; identification of specific actions to be considered by both sides in 2022 and beyond, to advance export control cooperation with a view toward enhancing international security while maintaining a level playing field for industry; and joint initiation of a process to solicit inputs from a wide range of stakeholders from both country's industries on the export control issues. On July 29, 2022, at the first meeting of the Economic Policy Consultative Committee held by Secretary Gina Raimondo, Secretary of State Anthony Blinken, Minister Koichi Hagiuda, and Minister of Foreign Affairs Yoshimasa Hayashi, they welcomed the progress of, and reaffirmed, to continue joint efforts to enhance U.S.-Japan cooperation on export control, including that under the JUCIP.

In furtherance of Secretary Raimondo and Minister Hagiuda's commitment to ensuring active stakeholder involvement in the JUCIP and the Export Control Working Group's agreement to solicit inputs from a wide range of stakeholders on export control issues, the Bureau of Industry and Security (BIS) is seeking comments on ways in which existing U.S. and/or Japanese dual-use export control policies and practices may be more transparent, more efficient and effective, and more convergent, including in identifying and controlling emerging or foundational technologies, and in better facilitating research collaboration between Japan and U.S. research organizations. BIS welcomes inputs from all interested persons to assist BIS in developing ideas and proposals, as well as facilitate a productive dialogue with Japan. Comments providing specific and concrete examples where further convergence in U.S. and Japanese export control practices and policies could enhance international security and support a global level-playing field and joint technology development and innovation, would be particularly helpful.

Thea D. Rozman Kendler,
Assistant Secretary for Export Administration.

[FR Doc. 2022-25915 Filed 11-30-22; 8:45 am]

BILLING CODE 3510-33-P